ENVIRONMENTAL PROTECTION AGENCY

[EPA-HQ-OPP-2025-0756; FRL-12903-03-OCSPP]

FIFRA Scientific Advisory Panel (SAP); Notice of Postponement of Public Meeting

AGENCY: Environmental Protection Agency (EPA).

ACTION: Notice.

SUMMARY: The Agency has postponed the 3-day virtual public meeting of the Federal Insecticide, Fungicide, and Rodenticide Act Scientific Advisory Panel (FIFRA SAP) for peer review on “Determining the Absence of Novel Proteins in the Saliva of Genetically Engineered Mosquitoes for Mosquito Control” scheduled for November 3 to 5, 2025. The meeting was announced in the Federal Register on July 24, 2025. The meeting will be rescheduled.

FOR FURTHER INFORMATION CONTACT: Alie Muneer, Designated Federal Official, Mission Support Division, Office of Program Support, Office of Chemical Safety and Pollution Prevention, Environmental Protection Agency; telephone number: (202) 564-6369 or the main office number: (202) 564-8450; email address: muneer.alie@epa.gov.

SUPPLEMENTARY INFORMATION: The meeting was announced in the Federal Register on July 24, 2025 (90 FR 34864 (FRL-12903-01-OCSPP). This meeting is being rescheduled due to the lapse in government appropriations and its impact on potential and existing panel members. A new notice announcing the new date will be published in the Federal Register at least 15 days prior to the meeting being held.

Authority: 5 U.S.C. 10; 7 U.S.C. 136 et seq.; 21 U.S.C. 301 et seq.

Dated: October 22, 2025.
Nancy B. Beck,
Principal Deputy Assistant Administrator, Office of Chemical Safety and Pollution Prevention.

[FR Doc. 2025-19663 Filed 10-24-25; 8:45 am]

BILLING CODE 6560-50-P